DEPARTMENT OF TRANSPORTATION

Federal Aviation Administration

14 CFR Part 39

[Docket No. FAA-2005-22560; Directorate Identifier 2005-NM-061-AD]

RIN 2120-AA64

Airworthiness Directives; Dassault Model Falcon 2000 Airplanes Equipped With CFE Company CFE738-1-1B Turbofan Engines

AGENCY: Federal Aviation Administration (FAA), Department of Transportation (DOT).

ACTION: Notice of proposed rulemaking (NPRM).

SUMMARY: The FAA proposes to adopt a new airworthiness directive (AD) for certain Dassault Model Falcon 2000 airplanes equipped with CFE Company CFE738-1-1B turbofan engines. This proposed AD would require determining the serial number of the engines installed on the airplane, inspecting any affected engine to verify that a spherical bearing is installed on the attachment fitting of the engine mount, and corrective action if necessary. This proposed AD results from a report of a missing spherical bearing on the attachment fitting of the front engine mount on an in-service airplane, and subsequent damage and abnormal fatigue of the attachment fitting. We are proposing this AD to prevent reduced structural integrity of the engine mount, which could result in possible separation of an engine from the airplane.

DATES: We must receive comments on this proposed AD by October 31, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “FAA-2005-22560; Directorate Identifier 2005-NM-061-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Dassault Model Falcon 2000 airplanes equipped with CFE Company CFE738-1-1B turbofan engines. The DGAC advises that there has been a report of a missing spherical bearing found on the attachment fitting of the front engine mount on an in-service airplane. The absence of the spherical bearing resulted in damage and abnormal fatigue of the attachment fitting. Investigation revealed that the missing spherical bearing was one intended for pickup of loads perpendicular to the engine thrust. After the engine was moved from the right-hand to the left-hand side of the airplane, the spherical bearing was found in the outer ring of the opposite side. Airplanes affected by this defect would be those on which one or both engines were moved from one side of the airplane to the other during production. This condition, if not corrected, could cause reduced structural integrity of the engine mount, which could result in possible separation of an engine from the airplane.

Relevant Service Information

Dassault has issued Service Bulletin F2000-299, dated July 23, 2004. The service bulletin describes procedures for determining the serial number of the engines installed on the airplane, performing a borescope inspection of any affected engine to verify a spherical bearing is installed on the attachment fitting of the front engine mount, and corrective action if necessary. If a spherical bearing is missing, the corrective action involves removing the engine and sending it to a CFE service center for repair. The DGAC mandated the service information and issued French airworthiness directive F-2004-128, dated August 4, 2004, to ensure the continued airworthiness of these airplanes in France.

FAA's Determination and Requirements of the Proposed AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously, except as discussed under “Differences Among Proposed AD, French Airworthiness Directive, and Service Bulletin.”

Differences Among Proposed AD, French Airworthiness Directive, and Service Bulletin

The French airworthiness directive and the service bulletin specify that if a spherical bearing is missing, operators should return the engine to a CFE service center for repair. This proposed AD would require you to repair those conditions using a method that we or the DGAC (or its delegated agent) approve. In light of the type of repair that would be required to address the unsafe condition, and consistent with existing bilateral airworthiness agreements, we have determined that, for this proposed AD, a repair we or the DGAC approve would be acceptable for compliance with this proposed AD.

Although the French airworthiness directive referenced in this AD specifies to submit certain information to the manufacturer, this proposed AD does not include that requirement.

Costs of Compliance

This proposed inspection would affect about 7 airplanes of U.S. registry. The proposed inspection would take about 2 work hours per airplane, at an average labor rate of $65 per work hour. Based on these figures, the estimated cost of the proposed AD for U.S. operators is $910, or $130 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Dassault Aviation: Docket No. FAA-2005-22560; Directorate Identifier 2005-NM-061-AD.

Comments Due Date

(a) The FAA must receive comments on this AD action by October 31, 2005.

Affected ADs

(b) None.

Applicability

(c) This AD applies to Dassault Model Falcon 2000 airplanes, certificated in any category; equipped with CFE Company CFE738-1-1B turbofan engines.

Unsafe Condition

(d) This AD results from a report of a missing spherical bearing on the attachment fitting of the front engine mount on an in-service airplane, and subsequent damage and abnormal fatigue of the attachment fitting. We are issuing this AD to prevent reduced structural integrity of the engine mount, which could result in possible separation of an engine from the airplane.

Compliance

(e) You are responsible for having the actions required by this AD performed within the compliance times specified, unless the actions have already been done.

Determine Serial Number (S/N) and Inspect If Necessary

(f) Within the applicable compliance time specified in paragraph (f)(1), (f)(2), or (f)(3) of this AD: Determine the serial number of the engines installed on the airplane, as identified in the table in paragraph 1.A., “Effectivity,” of Dassault Service Bulletin F2000-299, dated July 23, 2004; if any affected serial number is found on any engine, perform a borescope inspection to verify that a spherical bearing is installed on the attachment fitting of the front engine mount by doing all the applicable actions specified in the Accomplishment Instructions of the service bulletin.

(1) For airplanes with any engine having 850 total landings or less as of the effective date of this AD: Before the accumulation of 880 total landings on the engine.

(2) For airplanes with any engine having more than 850 total landings, but 1,000 total landings or less as of the effective date of this AD: Within 1 month after the effective date of this AD.

(3) For airplanes with any engine having more than 1,000 total landings as of the effective date of this AD: Within 10 landings after the effective date of this AD.

Corrective Action

(g) If any spherical bearing is found missing during the inspection required by paragraph (f) of this AD: Before further flight, repair according to a method approved by either the Manager, International Branch, ANM-116, FAA, Transport Airplane Directorate; or the Direction Générale de l'Aviation Civile (or its delegated agent).

No Reporting Requirement

(h) This AD does not require submitting reporting information to the manufacturer.

Alternative Methods of Compliance (AMOCs)

(i) The Manager, International Branch, ANM-116, has the authority to approve AMOCs for this AD, if requested in accordance with the procedures found in 14 CFR 39.19.

Related Information

(j) French airworthiness directive F-2004-128, issued August 4, 2004, also addresses the subject of this AD.

Issued in Renton, Washington, on September 20, 2005.
Ali Bahrami,
Manager, Transport Airplane Directorate, Aircraft Certification Service.

[FR Doc. 05-19566 Filed 9-29-05; 8:45 am]

BILLING CODE 4910-13-P